DEPARTMENT OF HOMELAND SECURITY

Office of the Secretary

Human Resource Management System Senior Review Advisory Committee

AGENCY: Department of Homeland Security, DHS.

ACTION: Notice of committee establishment.

SUMMARY: Under the Federal Advisory Committee Act, the Secretary of Homeland Security is establishing the Human Resource Management System Senior Review Advisory Committee.

Purpose and Objective: The Committee is charged with reviewing the work of the DHS/OPM Human Resource System Design Team and providing options to the Secretary of DHS and the Director of OPM for their consideration in establishing the new Human Resources Management System provided for in section 841 of the Homeland Security Act.

Balanced Membership Plans: The Committee consists of senior leadership from DHS, OPM and DHS' major unions, as well as individuals with particular expertise, knowledge and experience in human resources.

Duration: The Committee will exist for 2 years from the date of the Charter, unless earlier renewed or terminated.

Responsible DHS Official: The Chief Human Capital Officer, Department of Homeland Security, Washington, DC 20528. Phone number: (202) 786-0061.

Dated: June 5, 2003.
Ronald J. James,
Chief Human Capital Officer.

[FR Doc. 03-14781 Filed 6-10-03; 8:45 am]

BILLING CODE 4410-10-P